DEPARTMENT OF TRANSPORTATION

Federal Transit Administration

Competitive Research Funding Opportunity: FTA's Public Transportation Innovation Program

AGENCY: Federal Transit Administration, DOT.

ACTION: Notice of Funding Opportunity (NOFO) And Solicitation of Project Proposals for Real-Time Transit Infrastructure and Rolling Stock Condition Assessment Demonstration Program.

SUMMARY: The Federal Transit Administration (FTA) announces the availability of $1.25 million in Fiscal Year (FY) 2016 Public Transportation Innovation Program funds to demonstrate and evaluate innovative technologies and designs to improve the state of good repair for transit agencies. Public transit is an essential and integral part of America's transportation infrastructure. When transit assets are not in a state of good repair, the consequences include increased safety risks, decreased system reliability, higher maintenance costs, and lower system performance. The Real-Time Transit Infrastructure and Rolling Stock Condition Assessment Demonstration Program supports the U.S. Department of Transportation's (DOT) Infrastructure strategic goal, and the strategic objective of life cycle and preventive maintenance to field asset management planning and innovative maintenance strategies to keep public transit assets in a state of good repair. This demonstration program will fund innovative approaches to eliminate or mitigate known infrastructure deficiencies in public transportation via innovative technologies and designs.

FTA is seeking applications for demonstration projects that deploy cutting edge technologies to provide real-time condition assessment of transit infrastructure and rolling stock conditions. An eligible lead applicant under this notice must be an existing FTA grant recipient and eligible project partners and sub-recipients under this program may include, but are not limited to, providers of public transportation; State and local governmental entities; departments, agencies, and instrumentalities of the Government, including Federal laboratories; private or non-profit organizations; institutions of higher education; and technical and community colleges. This notice solicits competitive proposals addressing priorities established by FTA for these research areas, provides instructions for submitting proposals, and describes criteria FTA will use to identify meritorious proposals for funding, and the process to apply for funding. This announcement is also available on the FTA website at: https://www.transit.dot.gov/grants. A synopsis of this funding opportunity will be posted in the FIND module of the government-wide electronic grants website at http://www.grants.gov. The funding Opportunity ID is FTA-2020-013-TRI-TIR and the Catalog of Federal Domestic Assistance (CFDA) number FTA's Public Transportation Innovation Program, (49 U.S.C. 5312) is 20.530.

DATES: Complete proposals are due by 11:59 p.m. EDT on July 17, 2020. All proposals must be submitted electronically through the Grants.gov “APPLY” function. Prospective applicants should initiate the process by registering on the Grants.gov website promptly to ensure completion of the application process before the submission deadline. Instructions for applying can be found on FTA's website at https://www.transit.dot.gov/grants and in the “FIND” module of Grants.gov. Mail and fax submissions will not be accepted.

FOR FURTHER INFORMATION CONTACT: Please send any questions on this notice to samuel.yimer@dot.gov or contact Sam Yimer, Office of Research, Demonstration, and Innovation (TRI), (202) 366-1321. A TDD is available for individuals who are deaf or hard of hearing at 1-800-877-8339.

SUPPLEMENTARY INFORMATION:

Table of Contents

A. Program Description

B. Federal Award Information

C. Eligibility Information

1. Eligible Applicants

2. Eligible Projects

3. Cost Sharing or Matching

4. Other Requirements

a. Evaluation and Data Requirements

b. Participation in Information Exchange

D. Application and Submission Information

1. Address and Form of Application Submission

2. Content and Form of Application Submission

3. Unique Entity Identifier and System for Award Management (SAM) Registration Brief

4. Submission Dates and Times

5. Funding Restrictions

E. Application Review Information

1. Evaluation Criteria

2. Review and Selection Process

F. Federal Award Administration Information

1. Federal Award Notice

2. Administrative and National Policy Requirements

a. Pre-Award Authority

b. Grant Requirements

c. Planning

d. Standard Assurances

e. Buy America

f. Reporting

G. Federal Awarding Agency Contacts

A. Program Description

FTA's Public Transportation Innovation Program (49 U.S.C. 5312), authorizes FTA to fund research, development, demonstrations, and deployment projects to improve public transportation. The Real-Time Transit Infrastructure and Rolling Stock Condition Assessment Demonstration Program is a competitive demonstration opportunity under FTA's research emphasis area of infrastructure. This priority area supports the U.S. Department of Transportation's Infrastructure strategic goal, and the strategic objective of life cycle and preventive maintenance to field asset management planning and innovative maintenance strategies to keep public transit assets in a state of good repair. This demonstration program will fund innovative approaches to eliminate or mitigate known infrastructure deficiencies in public transportation via innovative technologies and designs.

Effective monitoring of transit infrastructure (elevated track, bridges, tunnels, transit right-of-way, etc.) and rolling stock is essential for efficient public transit operations and safety. Transit infrastructure inspection using state-of-the-art technologies, such as “smart sensors,” unmanned aerial vehicles, big data analytics and other technologies can automatically measure, record, and report in real-time detailed information regarding the condition of the infrastructures. These approaches benefit transit agencies' asset management activities by earlier identification of detects; tracking and monitoring deficiencies before they negatively impact transit operations; and optimizing resource allocation for preventative vs. critical maintenance.

The primary goal of this program is to enhance asset management of infrastructure and safety through innovative technologies. The specific objectives for the program are to:

• Explore advanced cutting-edge technologies that can provide real-time condition assessment of transit capital and facilities.

• Allow a more effective way for transit agencies to assess, detect, monitor and track deficiencies and defects related to infrastructure and rolling stock.

• Evaluate the cost-effectiveness and the practicality of proposed state-of-the art solutions.

All proposed demonstration projects must address the needs of transit agencies. To ensure this requirement is met, all applications should show how the project lead will partner with at least one transit agency. FTA will assess the strength of these partnerships in its evaluation of applications.

B. Federal Award Information

FTA's Public Transportation Program (49 U.S.C. 5312) authorizes FTA to make grants, or enter into contracts, cooperative agreements and other agreements for research, development, demonstration and deployment projects, and evaluation of research and technology of national significance to public transportation that the Secretary of Transportation determines will improve public transportation.

A total of $1.25 million in FY 2016 funds is available for award for demonstration projects under this notice. Successful proposals will be awarded as Cooperative Agreements. FTA intends to fund as many meritorious projects as possible. FTA recognizes that the funding available under this notice may be insufficient to fund all meritorious projects. So, FTA may, at its discretion, select an application for award of less than the originally-proposed amount if doing so is expected to result in a more advantageous portfolio of projects. Consequently, proposals should provide a detailed budget proposal for the fully-realized project as well as a reduced scope, and budget if the project can be scaled down and still achieve useful results. Applicants should specify and justify the minimum award amount needed to achieve effective project results.

Only proposals from eligible recipients (see C.1) for eligible activities will be considered for funding. Funds made available under this program may be used to fund operating expenses and preventive maintenance directly associated with the demonstration of the proposed project, but may not be used to fund such expenses for equipment not essential to the project.

FTA may, at its discretion, provide additional funds for selections made under this announcement or for additional meritorious proposals, if additional funding is made available. FTA will announce final selections on its website (www.transit.dot.gov) and may also announce selections in the Federal Register.

FTA seeks projects that can be implemented/started within six months of project award, and contains a minimum of six months of data collection and evaluation effort. The maximum period of performance allowed for the work covered by the award should not exceed thirty-six (36) months from the date of award.

C. Eligibility Information

1. Eligible Applicants

To be eligible for funding under this notice, applicants must demonstrate that the proposed project is supported by a lead applicant in partnership with at least one transit agency, and one or more strategic partner(s) with a substantial interest and involvement in the project. Eligible lead applicants under this notice must be existing FTA grant recipients. An application must clearly identify the eligible lead applicant and all project partners on the team.

Eligible project partners and sub-recipients under this program may include, but are not limited to:

A. Public Transportation Systems;

B. Private for profit and not for profit organizations, including technology system suppliers and bus manufacturers;

C. Operators of transportation, such as employee shuttle services or airport connector services or university transportation systems;

D. State or local government entities; and,

E. Other organizations that may contribute to the success of the project team including consultants, research consortia or not-for-profit industry organizations, and institutions of higher education.

The lead applicant must have the ability to carry out the proposed agreement and procurements with team members in compliance with its respective State and local laws. FTA may determine that any named strategic partner in the proposal is a key party and make any award conditional upon the participation of that key party. A key party is essential to the project as approved by FTA and is therefore eligible for a noncompetitive award by the lead entity to provide the goods or services described in the application. A key party's participation on a selected project may not later be substituted without FTA's approval. For-profit companies may participate on teams; however, recipients and subrecipients of funding under this program may not charge a fee or profit from the FTA research program.

In instances where a provider(s) of public transportation is a partner and not the lead applicant, a detailed statement regarding the role of the provider(s) in the conduct of the project is required. Also required is a signed letter from the public transportation service provider's General Manager of his/her commitment to the project and the understanding of the agency's roles/responsibilities in the project.

2. Eligible Projects

Applicants may submit one proposal for each project but not one proposal containing multiple projects. Applicants can submit multiple proposals, but each eligible project proposal should focus on advanced cutting-edge technologies that can provide real-time condition assessment of transit infrastructures to effectively detect, monitor, and track deficiencies and defects of infrastructure and rolling stock.

Project proposals must include a research and/or synthesis phase, development phase and a demonstration phase. All phases are critical to project selection. Revenue-service, full-scale demonstrations are preferred where practicable. However, in cases where a full-scale demonstration would be impractical, detailed plans for non-revenue service or limited demonstration of the innovative technology or designs will be considered. Basic research or studies that do not result in any demonstration of the potential for commercialization or broad deployment within the scope of the project will not be considered for funding.

3. Cost Sharing or Matching

The federal share of project costs under this program is limited to eighty percent (80%). Applicants may seek a lower Federal contribution. The applicant must provide the local share of the net project cost in cash, or in-kind, and must document in its application the source of the local match. Regardless of minimum share requirements, cost sharing is an evaluation criterion and proposals with higher cost share than the minimum twenty percent (20%) share requirement will be considered more favorably. Cash and other high-quality match will be considered more favorably than in-kind cost matching, though all are acceptable. Eligible sources of local match are detailed in FTA Research Circular 6100.1E. (available at https://www.transit.dot.gov/regulations-and-guidance/fta-circulars/final-circulars).

4. Other Requirements

a. Evaluation and Data Requirements

Projects funded under this announcement will be required to gather and share all relevant and required data with the FTA or its designated independent evaluator within appropriate and agreed-upon timelines, to support project evaluation. The Department may make available a secure data system to store data for evaluation or projects may suggest an appropriate third-party system where Departmental analysts can conduct their work, with FTA approval. Applicants should budget for the costs of data storage and sharing as appropriate.

In response to the White House Office of Science and Technology Policy memorandum dated February 22, 2013, entitled Increasing Access to the Results of Federally Funded Scientific Research, the Department is incorporating Public Access requirements into all funding awards (grants and cooperative agreements) for scientific research. All work conducted under the Real-Time Transit Infrastructure and Rolling Stock Condition Assessment Demonstration program must follow the Department data policies outlined in the DOT Public Access Plan at: https://ntl.bts.gov/public-access/how-comply. Recipients are required to include these obligations in any sub-awards or other related funding agreements.

The FTA expects Recipients to remove confidential business information (CBI) and Personally Identifiable Information (PII) before providing public access to project data. Recipients must ensure the appropriate data are accessible to the FTA and/or the public for a minimum of five years after the award period of performance expires.

Additionally, information submitted as part of or in support of this demonstration program-funded project shall make every attempt to use publicly available data or data that can be made public and methodologies that are accepted by industry practice and standards, to the extent possible. FTA recognizes that certain partnerships may pose a challenge to data sharing and will work with each recipient to develop an appropriate Data Management Plan (DMP).

Recipients must make available to the Department copies of all work developed in performance of a project funded under this announcement, including but not limited to software and data. Data rights shall be in accordance with 2 CFR 200.315, Intangible property.

If the submission includes information the applicant considers to be trade secret or confidential commercial or financial information, the applicant should do the following: (1) Note on the front cover that the submission “Contains Confidential Business Information (CBI)”; (2) mark each affected page “CBI”; and (3) highlight or otherwise denote the CBI portions. FTA protects such information from disclosure to the extent allowed under applicable law.

Project teams may be asked to participate in information exchange meetings, webinars, or outreach events to support FTA's goal of advancing the state of the practice. Project teams will be required to work with FTA to support knowledge transfer by participating in a relevant community of practice or similar activity. Applicants should allocate a portion of their budgets to support such work, which may include travel or presentations at key industry gatherings, such as conferences of the American Public Transportation Association (APTA), Transportation Research Board (TRB), and the Department, among others.

If FTA receives a Freedom of Information Act (FOIA) request for the information, FTA will follow the procedures described in the U.S. DOT FOIA regulations (49 CFR 7). Only information that is ultimately determined to be confidential under that procedure will be exempt from disclosure under FOIA. Should FTA receive an order from a court of competent jurisdiction ordering the release of the information, FTA will provide applicant timely notice of such order to allow the applicant the opportunity to challenge such an order. FTA will not challenge a court order on behalf of applicant.

b. Participation in Information Exchange

The selected project teams may be asked to participate in state of good repair related information exchange meetings, conferences, webinars, or outreach events where project teams share information with the transit industry and stakeholders on the progress and results of their project activities.

D. Application and Submission Information

1. Address and Form of Application Submission

Project proposals must be submitted electronically through Grants.gov (www.grants.gov) by July 17, 2020. Mail and fax submissions will not be accepted. A complete proposal submission will consist of at least two files: (1) The SF 424 Mandatory form (downloaded from Grants.gov) and (2) the Applicant and Proposal Profile supplemental form for the “Real-Time Transit Infrastructure and Rolling Stock Condition Assessment Demonstration Program” (supplemental form) found on the FTA website at https://www.transit.dot.gov/research-innovation. The supplemental profile provides guidance and a consistent format for applicants to respond to the criteria outlined in this NOFO. Once completed, the supplemental profile must be placed in the attachments section of the SF 424 Mandatory form. Applicants must use the supplemental profile designated for the “Real-Time Transit Infrastructure and Rolling Stock Condition Assessment Demonstration Program” and attach it to their submission in Grants.gov to successfully complete the application process. A proposal submission may contain additional supporting documentation as attachments. Supporting documentation could include but is not limited to support letters, pictures, digitized drawings, and spreadsheets.

Within 48 hours after submitting an electronic application, the applicant should receive 3 email messages from Grants.gov: (1) Confirmation of successful transmission to Grants.gov, (2) confirmation of successful validation by Grants.gov, and (3) confirmation of successful validation by FTA. If confirmations of successful validation are not received and a notice of failed validation or incomplete materials is received, the applicant must address the reason for the failed validation, as described in the email notice, and resubmit before the submission deadline. If making a resubmission for any reason, include all original attachments regardless of which attachments were updated and check the box on the supplemental form indicating this is a resubmission. Complete instructions on the application process can be found at https://www.transit.dot.gov/grants. FTA strongly encourages applicants to submit their applications at least 72 hours prior to the due date to allow time to receive the validation messages and to correct any problems that may have caused a rejection notification. FTA will not accept submissions after the stated submission deadline for any reason. Grants.gov scheduled maintenance and outage times are announced on Grants.gov. Deadlines will not be extended due to scheduled maintenance or outages.

Applicants are encouraged to begin the process of registration at Grants.gov well in advance of the submission deadline. Instructions on the Grants.gov registration process are available at Grants.gov. Registration is a multi-step process, which may take 3 to 5 days, but could take as much as several weeks to complete before an application can be submitted if the applicant needs to obtain certain identifying numbers external to Grants.gov (for example, applying for an Employer Identification Number). Registered applicants may still be required to take steps to keep their registration up to date before submissions can be made successfully: (1) Registration in the System for Award Management (SAM) is renewed annually and (2) persons making submissions on behalf of the Authorized Organization Representative (AOR) must be authorized in Grants.gov by the AOR to make submissions.

Applicants may submit one proposal for each project but not one proposal containing multiple projects. Information such as applicant name, Federal amount requested, local match amount, description of areas served, etc. may be requested in varying degrees of detail on both the SF 424 Form and Supplemental Form. Applicants must fill in all fields unless stated otherwise on the forms. Applicants should use both the “CHECK PACKAGE FOR ERRORS” and the “VALIDATE FORM” validation buttons on both forms to check all required fields on the forms, and ensure that the federal and local amounts specified are consistent. The information described in Sections “E” through “H” below MUST be included and/or addressed on the SF 424 Form and other supplemental forms for all requests for the “Real-Time Transit Infrastructure and Rolling Stock Condition Assessment Demonstration Program” funding.

2. Content and Form of Application Submission

At a minimum, every proposal must include an SF-424 form, with the Applicant and a Proposal Profile supplemental form attached. The Applicant and Proposal Profile supplemental form for this Program can be found on the FTA website at https://www.transit.dot.gov/research-innovation.

Consistent with the Department's R.O.U.T.E.S. Initiative (https://www.transportation.gov/rural), the Department encourages applicants to describe how activities proposed in their application would address the unique challenges facing rural transportation networks, regardless of the geographic location of those activities.

All applicants are required to provide detailed information on the Applicant and Proposal Profile supplemental form, including:

(a) State the project title, the overall goals of the project, and describe the project scope, including anticipated deliverables.

(b) Discuss the current state of asset management practice, challenges and how the proposed project will address those needs.

(c) Details on whether the proposed demonstration is a new effort or a continuation of a prior research and the degree of expected improvement from the project over current asset management technologies and practices.

(d) Address each evaluation criterion separately, demonstrating how the project responds to each criterion as described in Section E.

(e) Provide a line-item budget for the total project with enough detail to indicate the various key components of the project. FTA may elect to fund only part of some project proposals; the budget should provide for the minimum amount necessary to fund specific project components of independent utility. If the project can be scaled, provide a scaling plan describing the minimum funding necessary for a feasible project and the impacts of a reduced funding level.

(f) Provide the Federal amount requested and document the matching funds, including amount and source of the match (may include local or private sector financial participation in the project). Provide support documentation, including financial statements, bond-ratings, and documents supporting the commitment of non-federal funding to the project, or a timeframe upon which those commitments would be made.

(g) A project time-line outlining steps from project implementation through completion, including significant milestones and the roles of the responsible team members.

(h) The proposed location(s) of the research and demonstration, the type of public transportation service where the technology or design modifications will be demonstrated.

(i) The technology(ies) and design modification to be used in this demonstration and explanation of the principle of operation for the public transportation service, type of transit vehicle (example: Bus, articulated bus, over-the-road bus, heavy rail, light rail, etc.), vehicle manufacturer and model. Including, the number of transit vehicles involved in the demonstration, if necessary. And, how the proposed technology and design modification will address the primary goal of this program to enhance asset management of infrastructure and safety through innovative technologies, and how it will meet the specific objectives for the program:

• Explore advanced cutting-edge technologies that can provide real-time condition assessment of transit capital and facilities;

• Allow a more effective way for transit agencies to assess, detect, monitor and track deficiencies and defects related to infrastructure and rolling stock.

• Evaluate the cost-effectiveness and the practicality of proposed state-of-the art solutions.

(j) A description of any exceptions or waivers to FTA requirements or policies necessary to successfully implement the proposed project. FTA is not inclined to grant deviations from its requirements, but may consider deviations if the applicant can show a compelling benefit. Example: Buy America requirement, Deferred Local Share, Letter of No prejudice, etc.

(k) Potential issues (technical or other) that may impact the success of the project.

(l) Address whether other Federal funds have been sought for the project.

(m) Provide Congressional district information for the project's place of performance.

3. Unique Entity Identifier and System for Award Management (SAM) Registration in Brief

Each applicant is required to: (i) Be registered in SAM before submitting its application; (ii) provide a valid unique entity identifier in its application; and (iii) continue to maintain an active SAM registration with current information at all times during which it has an active Federal award or an application or plan under consideration by a Federal awarding agency. FTA may not make a Federal award to an applicant until the applicant has complied with all applicable unique entity identifier and SAM requirements and, if an applicant has not fully complied with the requirements by the time FTA is ready to make an award, FTA may determine that the applicant is not qualified to receive an award and use that determination as a basis for making an award to another applicant.

Registration can take as little as 3-5 business days, but since there could be unexpected steps or delays (for example, if you need to obtain an EIN), FTA recommends allowing ample time for completion of all steps.

STEP 1: Obtain DUNS Number: Same day. If requested by phone (1-866-705-5711) DUNS is provided immediately. If your organization does not have one, you will need to go to the Dun & Bradstreet website at http://fedgov.dnb.com/webform to obtain the number.

STEP 2: Register with SAM: Three to five business days or up to two weeks. If you already have a TIN, your SAM registration will take 3-5 business days to process. If you are applying for an EIN please allow up to 2 weeks. Ensure that your organization is registered with the System for Award Management (SAM) at System for Award Management (SAM). If your organization is not, an authorizing official of your organization must register.

STEP 3: Username & Password: Same day. Complete your AOR (Authorized Organization Representative) profile on Grants.gov and create your username and password. You will need to use your organization's DUNS Number to complete this step. https://apply07.grants.gov/apply/OrcRegister.

STEP 4: AOR Authorization: Same day (depending on responsiveness of your E-Biz POC). The E-Business Point of Contact (E-Biz POC) at your organization must login to Grants.gov to confirm you as an Authorized Organization Representative (AOR). Please note that there can be more than one AOR for your organization. In some cases the E-Biz POC is also the AOR for an organization.

STEP 5: TRACK AOR STATUS: At any time, you can track your AOR status by logging in with your username and password. Login as an Applicant (enter your username & password you obtained in Step 3) under applicant profile.

4. Submission Dates and Times

Project proposals must be submitted electronically through http://www.GRANTS.GOV by 11:59 p.m. EDT on July 17, 2020.

5. Funding Restrictions

Funds under this NOFO cannot be used to reimburse projects for otherwise eligible expenses incurred prior to FTA award of a Grant Agreement or Cooperative Agreement unless FTA has issued a “Letter of No Prejudice” for the project before the expenses are incurred.

This program is a research and development effort and as such FTA Circular 6100.1E rules will apply in administering the program (available at https://www.transit.dot.gov/regulations-and-guidance/fta-circulars/final-circulars).

E. Application Review Information

1. Evaluation Criteria

Projects will be evaluated by FTA according to the following six evaluation criteria described in this section. Each applicant is encouraged to demonstrate the responsiveness of a project to all the criteria shown below with the most relevant information that the applicant can provide.

Consistent with the Department's R.O.U.T.E.S. Initiative https://www.transportation.gov/rural), the Department recognizes that rural transportation networks face unique challenges. To the extent that those challenges are reflected in the merit criteria listed in this section, the Department will consider how the activities proposed in the application will address those challenges, regardless of the geographic location of those activities. FTA will assess the extent to which a proposal addresses the following criteria:

(A) Project Innovation and Impact

(i) Effectiveness of the project in achieving and demonstrating the specific objectives of this program.

(ii) Demonstration of benefits in addressing the needs of the transit agency and industry and impacts to infrastructure and rolling stock investments.

(iii) Degree of technological improvement over current and existing technologies applicable to the state of good repair in the transit industry.

(B) Project Approach

(i) Quality of the project approach, including interface design, existing partnerships and collaboration strategies in meeting the objectives of the program.

(ii) Proposal is realistic in its approach to fulfill the milestones/deliverables, schedule and goals.

(iii) Proposal clearly establishes a research phase, a development phase and a demonstration phase.

(C) National Applicability

(i) Degree to which the project could be replicated by other transit agencies regionally or nationally.

(ii) Ability to evaluate technologies and designs in a wide variety of conditions and locales.

(iii) Degree to which the technology, designs and/or practices can be replicated by other rail modes and/or transportation modes.

(D) Commercialization and/or Knowledge Transfer Plan

(i) Demonstrates an effective, timely, and realistic plan for moving the results of the project into the transit marketplace through conferences, webinars, publications, site visits, tec.

(ii) How the project team plans to work with the industry on improving best practices, guidance and/or standards, if applicable.

(iii) Demonstrate a clear understanding and robust approach to data collection and management.

(E) Return on Investment

(i) Cost-effectiveness of the proposed project.

(ii) Anticipated measurable safety benefits and/or potential impact on industry guidance and standards.

(iii) The anticipated intangible benefits, such as making public transportation service more appealing to potential passengers, providing educational opportunities, or reducing negative externalities such as traffic congestion or others.

(F) Team Capacity and Commitment

(i) The level of local match (minimum of 20%) and the quality of cost share by project partners (in-kind or cash).

(ii) Availability of existing resources (physical facilities, human resources, partnerships) to carry out the project.

(iii) Demonstrated capacity and experience of the partners to carry out the demonstration project of similar size and/or scope.

2. Review and Selection Process

A technical evaluation panel comprised of FTA staff and possibly other DOT staff will review project proposals against the evaluation criteria listed above. Members of the technical evaluation panel reserve the right to evaluate proposals they receive and seek clarification from any applicant about any ambiguous statement in the proposal. FTA may also request additional documentation or information to be considered during the evaluation process. After thorough evaluation of all valid proposals, the technical evaluation panel will provide project recommendations to the FTA Administrator. The FTA Administrator will determine the final list of project selections, and the amount of funding for each project. Geographic diversity, diversity of project type, and the applicant's receipt of other Federal funding may be considered in FTA's award decisions.

Prior to making an award, FTA is required to review and consider any information about the applicant that is in the designated integrity and performance system accessible through SAM (currently FAPIIS) (see 41 U.S.C. 2313). An applicant, at its option, may review information in the designated integrity and performance systems accessible through SAM and comment on any information about itself that a Federal awarding agency previously entered and is currently in the designated integrity and performance system accessible through SAM. FTA will consider any comments by the applicant, in addition to the other information in the designated integrity and performance system, in making a judgment about the applicant's integrity, business ethics, and record of performance under Federal awards when completing the review of risk posed by applicants as described in § 200.205 Federal awarding agency review of risk posed by applicants.

F. Federal Award Administration Information

FTA intends to fund multiple meritorious projects to support executing eligible project activities. To enhance the value of the portfolio of research and demonstration projects to be implemented, FTA reserves the right to request an adjustment of the project scope and budget of any proposal selected for funding. Such adjustments shall not constitute a material alteration of any aspect of the proposal that influenced the proposal evaluation or decision to fund the project. FTA also reserves the right to terminate and re-compete a project(s) awarded under this notice when a project sponsor(s) fail to meet the requirements set forth under this notice.

1. Federal Award Notice

Subsequent to announcement by FTA of the final project selections, FTA may publish a list of the selected projects, including Federal dollar amounts and recipients, on its public website.

2. Administrative and National Policy Requirements

a. Pre-Award Authority

FTA will issue specific guidance to recipients regarding pre-award authority at the time of selection. FTA does not provide pre-award authority for competitive funds until projects are selected and even then, Federal requirements must be met before costs are incurred. Preparation of proposals is not an eligible pre-award expense.

b. Grant Requirements

Successful proposals will be awarded through FTA's Transit Award Management System (TrAMS) as Cooperative Agreements.

c. Planning

The FTA encourages applicants to engage the appropriate State Departments of Transportation, Regional Transportation Planning Organizations, or Metropolitan Planning Organizations in areas likely to be served by the project funds made available under this program.

d. Standard Assurances

The applicant assures that it will comply with all applicable Federal statutes, regulations, executive orders, FTA circulars, and other Federal administrative requirements in carrying out any project supported by the FTA grant. The applicant acknowledges that it is under a continuing obligation to comply with the terms and conditions of the grant agreement issued for its project with FTA. The applicant understands that Federal laws, regulations, policies, and administrative practices might be modified from time to time and may affect the implementation of the project. The applicant agrees that the most recent Federal requirements will apply to the project, unless FTA issues a written determination otherwise. The applicant must submit the Certifications and Assurances before receiving a grant if it does not have current certifications on file.

e. Buy America

FTA requires that all capital procurements meet FTA's Buy America requirements per 49 U.S.C. 5323(j), which require that all iron, steel, or manufactured products be produced in the United States. Federal public transportation law provides for a phased increase in the domestic content for rolling stock between FY 2016 and FY 2020. For FY 2020 and beyond, the cost of components and subcomponents produced in the United States must be more than 70 percent of the cost of all components. There is no change to the requirement that final assembly of rolling stock must occur in the United States. FTA issued guidance on the implementation of the phased increase in domestic content on September 1, 2016 (81 FR 60278). Applicants should read the policy guidance carefully to determine the applicable domestic content requirement for their project. Any proposal that will require a waiver must identify in the application the items for which a waiver will be sought. Applicants should not proceed with the expectation that waivers will be granted. Consistent with Executive Order 13858 Strengthening Buy-American Preferences for Infrastructure Projects, signed by President Trump on January 31, 2019, applicants should maximize the use of goods, products, and materials produced in the United States, in Federal procurements and through the terms and conditions of Federal financial assistance awards. Additional information on Buy America requirements can be found at https://www.transit.dot.gov/buyamerica.

f. Reporting

Post-award reporting requirements include submission of Federal Financial Reports and Milestone Reports in FTA's electronic grants management system on a quarterly basis for all projects.

G. Federal Awarding Agency Contacts

For further information concerning this notice please contact the FTA Real-Time Transit Infrastructure and Rolling Stock Condition Assessment Demonstration Program Manager Sam Yimer at samuel.yimer@dot.gov or 202-366-1321. A TDD is available for individuals who are deaf or hard of hearing at 1-800-877-8339.

Issued in Washington, DC.
K. Jane Williams,
Acting Administrator.

[FR Doc. 2020-11129 Filed 5-22-20; 8:45 am]

BILLING CODE P